ENVIRONMENTAL PROTECTION AGENCY

40 CFR Part 52

[EPA-R07-OAR-2007-0383; FRL-8318-7]

Approval and Promulgation of Implementation Plans; State of Missouri

AGENCY: Environmental Protection Agency (EPA).

ACTION: Proposed rule.

SUMMARY: EPA proposes to approve a request to amend the Missouri State Implementation Plan (SIP) to include the base year inventory for the Missouri portion of the St. Louis 8-hour ozone national ambient air quality standard (NAAQS) nonattainment area and a demonstration of Missouri's emissions statement authority. The Missouri portion of the St. Louis nonattainment area consists of the City of St. Louis and Franklin, Jefferson, St. Charles and St. Louis Counties. The nonattainment area also includes four counties in Illinois. This amendment would fulfill Missouri's obligation, as a moderate nonattainment area, to submit a base year inventory for the 8-hour ozone NAAQS and to demonstrate adequate authority to address the emissions statement requirement under Section 182(a)(1) and Section 182(a)(3)(B) of the Clean Air Act (CAA), respectively.

DATES: Comments on this proposed action must be received in writing by July 2, 2007.

ADDRESSES: Submit your comments, identified by Docket ID No. EPA-R07-OAR-2007-0383 by one of the following methods:

1. http://www.regulations.gov: Follow the on-line instructions for submitting comments.

2. E-mail: rios.shelly@epa.gov.

3. Mail: Shelly Rios-LaLuz, Environmental Protection Agency, Air Planning and Development Branch, 901 North 5th Street, Kansas City, Kansas 66101.

4. Hand Delivery or Courier. Deliver your comments to: Shelly Rios-LaLuz, Environmental Protection Agency, Air Planning and Development Branch, 901 North 5th Street, Kansas City, Kansas 66101. Such deliveries are only accepted during the Regional Office's normal hours of operation. The Regional Office's official hours of business are Monday through Friday, 8 to 4:30, excluding legal holidays.

Please see the direct final rule which is located in the Rules section of this Federal Register for detailed instructions on how to submit comments.

FOR FURTHER INFORMATION CONTACT: Shelly Rios-LaLuz at (913) 551-7296, or by e-mail at rios.shelly@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: May 14, 2007.
John B. Askew,
Regional Administrator, Region 7.

[FR Doc. E7-10233 Filed 5-30-07; 8:45 am]

BILLING CODE 6560-50-P